DEPARTMENT OF ENERGY

Federal Energy Regulatory Commission

[Docket No. RP01-236-000]

Transcontinental Gas Pipe Line Corporation; Notice of Conference

April 18, 2002.

Take notice that Transcontinental Gas Pipe Line Corporation will make an informational presentation on its plan to implement the 1Line internet service delivery computer system on Thursday, April 25, 2002, at 1:30 p.m., in a room to be designated at the offices of the Federal Energy Regulatory Commission, 888 First Street, NE., Washington, DC 20426.

All interested persons and Staff are permitted to attend.

Linwood A. Watson, Jr.,
Deputy Secretary.

[FR Doc. 02-10014 Filed 4-23-02; 8:45 am]

BILLING CODE 6717-01-P